DEPARTMENT OF THE INTERIOR

Fish and Wildlife Service

[FWS-R6-R-2011-N269; FF06R06000-FXRS1266066CCP0S3-123]

Charles M. Russell National Wildlife Refuge and UL Bend National Wildlife Refuge, MT

AGENCY: Fish and Wildlife Service, Interior.

ACTION: Notice of availability: Final comprehensive conservation plan and final environmental impact statement.

SUMMARY: We, the U.S. Fish and Wildlife Service (Service), announce the availability of a final comprehensive conservation plan (CCP) and final environmental impact statement (EIS) for Charles M. Russell and UL Bend National Wildlife Refuges (NWRs, Refuges). In these documents, we describe alternatives, including our preferred alternative, to manage these refuges for the 15 years following approval of the final CCP.

ADDRESSES: You may request copies (hard copies or a CD-ROM) or more information by any of the following methods:

Agency Web site: Download a copy of the documents at www.fws.gov/cmr/planning.

Email: cmrplanning@fws.gov. Include “Request copy of Charles M. Russell NWR Final CCP/EIS” in the subject line of the message.

Mail: Charles M. Russell NWR Final CCP/EIS, P.O. Box 110, Lewistown, MT 59457.

In-Person Viewing or Pickup: Call (406) 538-8706 to make an appointment during regular business hours at Charles M. Russell NWR Headquarters, Airport Road, Lewistown, MT 59457.

Local Library or Libraries: The final documents are available for review at the libraries listed under SUPPLEMENTARY INFORMATION.

FOR FURTHER INFORMATION CONTACT: Richard Potts, Project Leader, at (406) 538-8706, or Laurie Shannon, Planning Team Leader, (303) 236-4317; laurie_shannon@fws.gov (email).

SUPPLEMENTARY INFORMATION:

Introduction

With this notice, we announce the availability of the final CCP and final EIS for Charles M. Russell and UL Bend NWRs. We started this process through a notice in the Federal Register (72 FR 68174, December 4, 2007). Following a lengthy scoping and alternatives development period, we published a second notice in the Federal Register (75 FR 54381, September 7, 2010) announcing the availability of the draft CCP and draft EIS and our intention to hold public meetings, and requested comments. We published a third notice in the Federal Register (75 FR 67095, November 1, 2010) extending the comment period by 24 days to December 10, 2010.

Charles M. Russell and UL Bend NWRs encompass nearly 1.1 million acres, including Fort Peck Reservoir in north central Montana. The Refuges extend about 125 air miles west from Fort Peck Dam to the western edge at the boundary of the Upper Missouri Breaks National Monument. UL Bend NWR lies within Charles M. Russell NWR. In essence, UL Bend is a refuge within a refuge, and the two refuges are managed as one unit and referred to as Charles M. Russell NWR. Refuge habitat includes native prairie, forested coulees, river bottoms, and badlands. Wildlife is as diverse as the topography and includes Rocky Mountain elk, mule deer, white-tailed deer, pronghorn, Rocky Mountain bighorn sheep, sharp-tailed grouse, greater sage-grouse, Sprague's pipit, black-footed ferrets, prairie dogs, and more than 236 species of birds.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, which is consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

The formal scoping period began on December 4, 2007, with the publication of a notice of intent in the Federal Register (72 FR 68174). Prior to this and early in the preplanning phase, we outlined a process that would be inclusive of diverse stakeholder interests and would involve a range of activities for keeping the public informed and ensure meaningful public input. This process was summarized in a planning update titled Public Involvement Summary (October 2007). Soon after, a project Web site was created, and since then the Public Involvement Summary, five additional planning updates, and other information have been posted to the Web site. We have mailed all planning updates to the project mailing list.

We began the process with formal notification to Native American tribes and other Federal and State agencies. Subsequently, there are a number of cooperating agencies participating on the planning project, including the U.S. Army Corps of Engineers; Bureau of Land Management; Montana Fish, Wildlife, and Parks; Montana Department of Natural Resources and Conservation; Fergus, Petroleum, Garfield, McCone, Valley, and Phillips Counties; and the Missouri River Council of Conservation Districts. We also formally consulted with the Fort Belknap and Fort Peck tribes in July 2009 and have encouraged their participation in the process.

During the initial scoping period, we received nearly 24,000 written responses. Hundreds of people attended seven public meetings across Montana, providing many verbal comments. Following the comment period, we summarized the information we learned and prepared a scoping report, which was posted to the project Web site. In the fall of 2008, we again reached out to the public and the cooperating agencies and sought additional input on four potential draft alternatives prior to fully developing and analyzing them. We held seven additional public meetings during this time and received hundreds of additional written and oral responses. On September 7, 2010, we announced the availability of the draft CCP and draft EIS (75 FR 54381). During September and October 2010, we held seven public meetings across Montana. During the comment period, we received 20,600 letters, emails, or verbal comments. In total, we have held 21 public meetings since the planning process began.

We have considered all public comments throughout the process and have incorporated them in numerous ways. The significant issues for the project include several issues related to habitat and wildlife, water resources, public use and access, wilderness, socioeconomics, partnerships and collaboration, and cultural values, traditions, and resources. We have considered and evaluated all of these comments, with many incorporated into the various alternatives addressed in the final CCP and final EIS.

CCP Alternatives Considered

Our draft CCP and draft EIS (75 FR 54381) addressed several issues that were raised during the scoping process. To address these issues, we developed, evaluated, and subsequently published four alternatives which are summarized below. A full description of each alternative is described in the final CCP and final EIS.

Alternative A—No Action. Few changes would occur in the management of existing wildlife populations and habitats. Wildlife-dependent public and economic uses would continue at current levels. Key actions follow:

• There would be continued emphasis on big game management; annual livestock grazing; the use of fencing for pastures; invasive species control; and water development. Habitats would be managed in 65 habitat units that were originally established by the Bureau of Land Management.

• Prescriptive grazing would be implemented as habitat units became available and within 15 years, we expect that 50 percent of the refuge would transition to prescriptive-type grazing. Currently about 34 percent of the units are prescriptively grazed. This regimen consists of long-term rest and/or short-term grazing to meet specific habitat objectives.

• We would manage big game to achieve the target levels identified in an earlier EIS developed in 1986. There could be more restrictive regulations for rifle mule deer harvest on portions of the refuge as compared with State regulations.

• Select stock ponds would be maintained and rehabilitated. Riparian habitat would be restored where possible.

• The public would continue to access the Refuge on 670 miles of roads. In addition to the designated wilderness within UL Bend National Wildlife Refuge, about 155,288 acres of proposed wilderness within 15 units of the Charles M. Russell NWR would be managed in accordance with Service policy.

Alternative B—Wildlife Population Emphasis. We would manage the landscape, in cooperation with our partners, to emphasize the abundance of wildlife populations using balanced natural ecological processes such as fire and grazing by wild ungulates and responsible farming practices and tree planting. Wildlife-dependent public use would be encouraged, and economic uses would be limited when they compete for habitat resources. Key actions follow:

• Habitat would be actively managed and manipulated, thus creating a diverse plant community of highly productive wildlife food and cover plants. The emphasis would be on habitat for targeted species of wildlife in separate parts of the Refuge. We would consolidate the 65 habitat units into fewer units that are ecologically similar and subsequently write new habitat management plans. Former agricultural fields in river bottom areas would be aggressively restored, and we would restore the functioning condition of riparian areas. Prescriptive livestock grazing would be implemented across 50-75 percent of the Refuge within 4-7 years, and interior fencing would be removed, if necessary. We would increase the use of prescribed fire to enhance fire-adapted plants. We would also implement several research projects to determine what impacts are occurring on the Refuge as a result of climate.

• Additional habitat suitable for Rocky Mountain bighorn sheep would be identified, and new populations would be established. Quality hunting experiences for harvesting elk, deer, bighorn sheep, and other big game would be promoted.

• About 106 miles of roads would be closed. The Service would work with partners to develop a travel plan and to secure access to the Refuge through other lands.

• The acreage of proposed wilderness would be expanded by 25,869 acres in 9 existing units.

Alternative C—Public Use and Economic Use Emphasis. We would manage the landscape, in cooperation with our partners, to emphasize and promote the maximum compatible wildlife-dependent public use and economic uses while protecting wildlife populations and habitats to the extent possible. Any damaging effects on wildlife habitat would be minimized while using a variety of management tools to enhance and diversify public and economic opportunities. Key actions follow:

• In addition to the habitat elements identified in Alternative A, habitats would be managed to provide more opportunities for wildlife-dependent recreation. This could require a compromise between providing wildlife food and cover and livestock forage needs. Where needed, fencing and water gaps would be used to manage livestock use and prevent further degradation of riparian habitat.

• There would be a gradual move to a prescriptive livestock grazing program when current grazing permits become available due to a change in ranch ownership (50 percent in 15 years). Prescribed fire would be used primarily to reduce hazardous fuels. An aggressive initial attack would be used in identified habitat units to minimize economic losses from wildfire. We would also implement several research projects to determine what impacts are occurring on the Refuge as a result of climate.

• Natural and constructed water sources would be allowed for livestock use, public fishing, and hunting. Future water developments would be allowed on a site-specific basis.

• A balance would be maintained between the numbers of big game and livestock in order to sustain habitats and populations of big game and sharp-tailed grouse. Similar balancing might be needed for nongame or migratory birds and livestock needs.

• Hunting opportunities would be expanded and maximized to include new species and traditional or niche (primitive weapon) hunting, mule deer season, predator hunting, trapping, and opportunities for young hunters.

• We would manage Refuge access to benefit public and economic uses. Access to boat ramps would be improved, and roads could be improved or seasonally closed where needed. The numbers of visitors participating in wildlife observation and other activities would be increased by a moderate amount through increased programs and facilities.

• There would be no expansions to existing proposed wilderness areas.

Alternative D—Preferred Alternative—Ecological Processes Emphasis. In cooperation with our partners, we would use natural, dynamic, ecological processes, and management activities in a balanced, responsible manner to restore and maintain the biological diversity, biological integrity, and environmental health of the Refuge. Once natural processes are restored, a more passive approach (less human assistance) would be favored. There would be quality wildlife-dependent public uses and experiences. Economic uses would be limited when they are injurious to ecological processes. Key actions follow:

• Management practices that mimic and restore natural processes, as well as maintain a diversity of plant species in upland and riparian areas on the Refuge, will be applied.

• Plant diversity and health would be maintained by using natural and prescribed fire in combination with wild ungulate herbivory (wildlife feeding on plants) or prescriptive livestock grazing, or both, to ensure the viability of sentinel plants (those plants that decline first when management practices are injurious). To achieve this goal, prescriptive livestock grazing, on up to 75 percent of the Refuge within 9 years, would be implemented to reduce the number of habitat units, remove unnecessary fencing, and to restore degraded riparian areas. The Service would work with partners to combat invasive weeds. We would also implement several research projects to determine what impacts are occurring on the Refuge as a result of climate change, focusing on the resiliency of plants to adapt to climate change.

• The Service would collaborate with Montana Department of Fish, Wildlife, and Parks and others, to maintain the health and diversity of all species' populations, including game, nongame, and migratory bird species. These efforts will focus on restoring and maintaining balanced, self-sustaining populations. Limited hunting for predators would be considered only after population levels could be verified and sustained. The Service would provide for a variety of quality hunting opportunities, including those with population objectives that have diverse male age structures.

• Refuge access would be managed to benefit natural processes and habitat. Permanent and seasonal road closures would be implemented on at least 21 miles of roads as needed, to encourage free movement of animals, permit prescribed fire activities, harvest wildlife ungulates, or allow other activities that contribute to ecological health. The numbers of visitors participating in wildlife observation and other activities would be increased through increased quality programs and facilities.

• The Service would recommend expanding 8 of the proposed wilderness units by 19,942 acres.

Comments

We solicited comments on the draft CCP and draft EIS from September 7, 2010 (75 FR 54381) (following an extension of the comment period, 75 FR 67095) through December, 10, 2010. During the comment period, we received about 20,600 letters, emails, or verbal comments, and we thoroughly evaluated them all.

Changes to the Final CCP and Final EIS

We made the following changes in the final CCP and final EIS from the draft CCP and draft EIS:

• Wilderness. We clarified that the proposed additions to the existing proposed wilderness areas would become wilderness study areas. These were transmitted to the U.S. Congress in 1974 but have not been acted upon. We determined that there is not sufficient justification for recommending the removal of any existing proposed wilderness area as previously considered in alternatives C and D. Subsequently, the wilderness appendix (E) was revised. As a result, the acreage for the wilderness study areas in alternative B was changed to 25,869 acres and in alternative D to 19,942 acres. We noted a mapping error in the draft CCP and EIS where 640 acres in East Seven Blackfoot was mislabeled as State land. We identified it as a wilderness study area in alternatives B and D as it is surrounded entirely by a Service proposed wilderness area or a Bureau of Land Management wilderness study area.

• Roads. We made several changes to alternative D as a result of significant public comment about roads. This included changing Road 315 in Petroleum County to a seasonal closure from a permanent closure in the draft EIS. We also identified 13 miles of roads to be closed seasonally during hunting season in Valley County (Roads 331, 332, 333, and 440). These roads would be opened several hours a day for game retrieval only. This will encourage free movement of wildlife and permit effective harvest of ungulates, while allowing access for hunters who are not physically able to carry out their game over the rugged terrain found on the refuge. In the draft CCP and draft EIS, we evaluated a full closure of these roads under alternative B.

• Wildlife objectives. We adjusted and clarified that the objectives for big game in alternative D would meet or exceed the objectives approved in State plans. Refuge-specific abundance and population composition objectives would be established through the habitat management planning process and would be tailored to regional habitat conditions, productivity, and other considerations including functioning ecosystem processes; biological integrity; and high quality hunting opportunities and experiences.

• Habitat objectives and strategies. We clarified and expanded our discussion about the use of prescriptive grazing including a discussion of how it is currently applied and how it would be applied in the future. Under all alternatives, we will continue to transition towards implementing prescriptive grazing and reducing annual grazing. This transition has been occurring over 20 years and is consistent with Service policies. The alternatives vary on how quickly this would occur. We expanded the discussion on our plant monitoring which we identified as sentinel plant monitoring to identify plants that are important for wildlife and are sensitive to changes in management or environmental conditions. We have been monitoring these changes since 2003. We also clarified the miles of streams under each alternative that will be improved as a result of restoration efforts.

• Focal bird species. We identified focal bird species for three of the refuge's broad habitat categories (upland, river bottoms, and riparian). We have tied the plant monitoring in alternative D and to a lesser extent in alternative B to focal bird species monitoring on the refuge. Previously we identified several birds as potential sentinel bird species. In order to be more consistent with the terminology being used by other program areas within the Service, we have changed it to focal bird species, and expanded our discussion about the importance of these species on the refuge.

• Minerals, land acquisition, water and air quality, climate change, and legal mandates. We made a number of clarifications or expanded the discussion on all of these topics. For example, we clarified that under all alternatives we will continue to acquire land from willing sellers within the approved refuge boundary or in accordance with the provisions of Title VIII of the Water Resources Development Act of 2000 (known as the Charles M. Russell National Wildlife Refuge Enhancement Act; Public Law 106-541). We added climate change to several of the goal statements, including habitat and wildlife and research.

Public Availability of Documents

You can view or obtain documents at the following locations:

• Our Web site: www.fws.gov/cmr/planning.

• The following public libraries:

Library | Address | Phone No.
Garfield County | 228 E. Main, Jordan, MT 59337 | (406) 557-2297
Glasgow | 408 3rd Avenue, Glasgow, MT 59230 | (406) 228-2731
Great Falls | 301 2nd Avenue, Great Falls, MT 59401 | (406) 453-0349
Lewistown | 701 W. Main, Lewistown, MT 59457 | (406) 538-5212
McCone County | 1101 C Avenue, Circle, MT 59215 | (406) 485-2350
Petroleum County | 205 S. Broadway, Winnett, MT 59087 | (406) 429-2451
Phillips County | 10 S. 4th Street E., Malta, MT 59538 | (406) 542-2407
Montana State University-Billings | 1500 University Drive, Billings, MT 59101 | (406) 657-2011
Montana State University-Bozeman | Roland R. Renne Library, Centennial Mall, Bozeman, MT 59717 | (406) 994-3171
Montana State University-Havre | Northern Vande Bogart Library, Cowan Drive, Havre, MT 59501 | (406) 265-3706
University of Montana | Mansfield Library, 32 Campus Drive, Missoula, MT 59812 | (406) 243-6860
Colorado State University | Morgan Library, 501 University Avenue, Fort Collins, CO 80523 | (970) 491-1841

Next Steps

We will document the final decision in a record of decision, which will be published in the Federal Register no sooner than 30 days after publishing this notice.

Dated: May 1, 2012.
Matt Hogan,
Acting, Deputy Regional Director, Mountain-Prairie Region, U.S. Fish and Wildlife Service.

[FR Doc. 2012-10886 Filed 5-4-12; 8:45 am]

BILLING CODE 4310-55-P